DEPARTMENT OF COMMERCE

Economic Development Administration

Agency Information Collection Activities; Submission to the Office of Management and Budget (OMB) for Review and Approval; Comment Request; Regional Economic Development Data Collection Instrument

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 3, 2025.

ADDRESSES: Interested persons are invited to submit written comments via email to Hallie Davis, Program Manager and Analyst, U.S. Department of Commerce, at HDavis1@doc.gov or PRAcomments@doc.gov. Do not submit Confidential Business Information or otherwise sensitive or protected information.

FOR FURTHER INFORMATION CONTACT: Requests for additional information or specific questions related to collection activities should be directed to Hallie Davis, Program Manager and Analyst, U.S. Department of Commerce, U.S. Department of Commerce, 1401 Constitution Avenue NW, Washington, DC 20230 at HDavis1@doc.gov or (202) 579-0218.

SUPPLEMENTARY INFORMATION:

I. Abstract

The Economic Development Administration (EDA) leads the Federal economic development agenda by promoting innovation and competitiveness and preparing American regions for growth and success in the worldwide economy. Guided by the basic principle that sustainable economic development should be driven locally, EDA works directly with communities and regions to help them build the capacity for economic development based on local business conditions and needs. Section 28 of the Stevenson-Wydler Technology Innovation Act of 1980 (Regional Technology and Innovation Hub Program (15 U.S.C. 3722a) is the legal authority under which EDA awards financial assistance and designee status under the Fiscal Year (FY) 23 Regional Technology and Innovation Hub Program (“Tech Hubs”). Under Tech Hubs, EDA seeks to strengthen U.S. economic and national security through place-based investments in regions with the assets, resources, capacity, and potential to become globally competitive, within approximately ten years, in the technologies and industries of the future—and for those industries, companies, and the good jobs they create to start, grow, and remain in the U.S. in order to support the growth and modernization of U.S. manufacturing, improve commercialization of the domestic production of innovative research, and strengthen U.S. economic and national security. Tech Hubs is a two-phase program: in Phase 1, EDA funded Strategy Development grants and designated 31 regions as Tech Hubs. In Phase 2, designated Tech Hubs are eligible to compete for funding for implementation projects. Further information on Tech Hubs can be found at www.eda.gov.

The purpose of this notice is to seek comments from the public and other Federal agencies on a request for a revised information collection for designated Tech Hubs to help ensure that Tech Hub investments are evidence-based, data-driven, and accountable to participants and the public.

Lead consortium members of the 31 designated Tech Hubs will submit identified program metrics and qualitative information to help assess specific program objectives. A semi-annual questionnaire will be sent to each of the Tech Hubs consortium leads which will gather the relevant data and stories for each of the 31 Tech Hubs designee consortia, resulting in consortia regional impact evaluation, resources, and tools for regional economic development decision-makers. The 31 designated Tech Hubs will provide information on the following objectives:

(1) Accelerating technology innovation, commercialization, demonstration, and deployment, which may include information on the number of patents filed, licensing agreements, approximate levels of research and development expenditures, adoption of new technologies, and acceleration of current technologies.

(2) Enabling infrastructure and advancing manufacturing, which may include information on specific facility information.

(3) Integrating an agile workforce system, which may include information on skills needed by employers, available training, hard-to-fill vacancies, policies and strategies for worker retention, and strategies for engagement with underserved workers.

(4) Increasing business and entrepreneurial capacity, which may include assessing employer competitiveness, relationships with federal, state, and local entities, current partnerships, and information about sources of capital to start and grow businesses and to adopt innovative approaches and technologies.

(5) Strengthening national security, which may include information on procurement processes, critical inputs, sourcing, supply chains, and strategic implications of technologies and their use cases.

Tech Hubs designees must submit this data one time to provide a baseline status of the Tech Hub and to help assess the results of designee status as well as potential future federal investments.

EDA is particularly interested in public comment on how the proposed data collection will support the assessment of job quality, including in ways that rely on pairing this information administrative data for analysis and other ways to minimize burden, or if alternative information should be considered.

II. Method of Collection

Data will be collected electronically.

III. Data

OMB Control Number: 0610-0113.

Form Number(s): None.

Type of Review: Revision and Extension.

Affected Public: Tech Hubs designees, which may include a(n): Institution of higher education, including Historically Black Colleges and Universities, Tribal Colleges or Universities, and Minority-Serving Institutions; State, territorial, local or Tribal governments or other political subdivisions of a State, including State and local agencies, or a consortium thereof; Industry groups or firms in relevant technology, innovation, or manufacturing sectors; Economic development organizations or similar entities that are focused primarily on improving science, technology, innovation, entrepreneurship, or access to capital; Labor organizations or workforce training organizations, which may include State and local workforce development boards; Economic development entities with relevant expertise, including a district organization; Organizations that contribute to increasing the participation of underserved populations in science, technology, innovation, and entrepreneurship; Venture development organizations; Organizations that promote local economic stability, high wage domestic jobs, and broad-based economic opportunities, such as employee ownership membership associations and State or local employee ownerships and cooperative development centers, financial institutions and investment funds, including community development financial institutions and minority depository institutions; Elementary schools and secondary schools, including area career and technical education schools; National laboratories; Federal laboratories; Manufacturing extension centers; Manufacturing U.S.A. Institutes; Transportation planning organizations; A cooperative extension services; Organizations that represent the perspectives of underserved communities in economic development initiatives; and Institutions receiving an award under the National Science Foundation's (NSF) Regional Innovation Engines Program.

Preliminary Estimated Number of Respondents: Consortium Lead Members/Tech Hubs Designee Consortia: 31 respondents, responding semi-annually for 10 years.

Estimated Time per Response: Consortium Lead Members/Tech Hubs Designee Consortia: 3 hours.

Estimated Total Annual Burden Hours: 1,860 hours.

Estimated Total Annual Cost to Public: $115,394 (cost assumes application of U.S. Bureau of Labor Statistics second quarter 2022 mean hourly employer costs for employee compensation for professional and related occupations of $62.04).

Respondent's Obligation: Mandatory for Consortium Lead Members.

Legal Authority: Stevenson Wydler Technology Innovation Act of 1980, Section 28 (15 U.S.C. 3722a).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-28463 Filed 12-4-24; 8:45 am]

BILLING CODE 3510-34-P